COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add products and services to the Procurement List that will be furnished by nonprofit agencies employing persons who are blind or have other severe disabilities, and deletes a service previously furnished by such agency.

DATES: Comments must be received on or before 6/19/2016.

ADDRESSES: Committee for Purchase From People Who Are Blind or Severely Disabled, 1401 S. Clark Street, Suite 715, Arlington, Virginia 22202-4149.

FOR FURTHER INFORMATION CONTACT: For further information or to submit comments contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

6135-00-985-7846—Battery, Non-Rechargeable, C, Alkaline

6135-00-835-7210—Battery, Non-Rechargeable, D, Alkaline

Mandatory for: Total Government Requirement

Mandatory Source(s) of Supply: Eastern Carolina Vocational Center, Inc., Greenville, NC

Contracting Activity: Defense Logistics Agency Land and Maritime

Distribution: A-List

NSN(s)—Product Name(s)

7490-00-NIB-0046—Label Printer, High Speed, PC and Mac, Black/Silver

7490-00-NIB-0047—Label Maker, Industrial, Handheld, Orange

7490-00-NIB-0050—Kit, Desktop Label Maker

7510-00-NIB-1081—Tape, Label, Black on White, ½″ x 24′

7510-00-NIB-1082—Cartridge, Label, Black on White, ¾″ x 26.2′

7510-01-NIB-1054—Cartridge, Label, Black on Clear, ½″ x 23′

7510-01-NIB-1055—Cartridge, Label, Black on Yellow, ½″ x 23′

7510-01-NIB-1056—Cartridge, Label, White on Black, ½″ x 23′

7510-01-NIB-1057—Cartridge, Label, Heat Shrink Tube, Black on White, ½″ x 5′

7530-00-NIB-1174—Labels, File Folder, Black on White, 9/16” x 3 7/16″

7530-00-NIB-1175—Labels, Address, Black on White, 1⅛″ x 3½″

7530-00-NIB-1176—Labels, Shipping, Black on White, 2⅛″ x 4″

7530-00-NIB-1177—Labels, Name Badge, Clip Hole, Black on White 2¼″ x 4″

Mandatory for: Total Government Requirement

Mandatory Source(s) of Supply: Association for the Blind and Visually Impaired—Goodwill Industries of Greater Rochester, Rochester, NY

Contracting Activity: General Services Administration, New York, NY

Distribution: A-List

NSN(s)—Product Name(s)

8520-00-NIB-0134—Purell Instant Hand Sanitizer, Green-Certified, 8 oz. Bottle

8520-00-NIB-0135—Purell Instant Hand Sanitizer, Green-Certified, 12 oz. Bottle

8520-00-NIB-0141—Purell Instant Hand Sanitizer, Alcohol-Free, Foam, 535 ml Pump Bottle

8520-00-NIB-0142—Purell Instant Hand Sanitizer, Alcohol-Free, Foam, 45 ml Pump Bottle

8520-00-NIB-0143—Purell Instant Hand Sanitizer, Alcohol-Free, Foam, 1200 ml LTX Cartridge Refill

8520-00-NIB-0144—Purell Instant Hand Sanitizer, Alcohol-Free, Foam, 1200 ml ADX Cartridge Refill

Mandatory for: Department of Homeland Security

Mandatory Source(s) of Supply: Travis Association for the Blind, Austin, TX

Contracting Activity: Department of Homeland Security, Office of Procurement Operations

Distribution: C-List

NSN(s)—Product Name(s):

MR 10732—Hershey's Lava Cake Maker, Shipper 20732;

MR 10733—Reese's Lava Cake Maker, Shipper 20733

Mandatory for: The requirements of military commissaries and exchanges in accordance with the Code of Federal Regulations, Chapter 51, 51-6.4.

Mandatory Source(s) of Supply: Winston-Salem Industries for the Blind, Inc., Winston-Salem, NC

Contracting Activity: Defense Commissary Agency

Distribution: C-List

Services

Service Type: Base Supply Center

Service Mandatory For: USPFO, Camp Mabry, 2200 West 35th Street, Austin, TX

Mandatory Source(s) of Supply: Industries for the Blind, Inc., West Allis, WI

Contracting Activity: Dept of the Army, W7N2 USPFO ACTIVITY TX ARNG, Austin, TX

Service Type: Laundry and Linen Service

Service Mandatory For: US Navy, Naval Medical Center, 34800 Bob Wilson Drive, San Diego, CA

Mandatory Source(s) of Supply: Job Options, Inc., San Diego, CA

Contracting Activity: Naval Medical Center, San Diego, CA

Service Type: Warehouse Support Service

Service Mandatory for: Health and Human Services, Program Support Center, Supply Service Center, Bldg 5, Perry Point, MD, Supply Service Center, 4 Center Drive, North East, MD

Mandatory Source(s) of Supply: Didlake, Inc., Manassas, VA

Contracting Activity: Department of Health and Human Services, Perry Point, MD

Deletion

The following service is proposed for deletion from the Procurement List:

Service

Service Type: Janitorial/Custodial Service

Service Mandatory for: Middle River Depot, 2800 Eastern Blvd., Baltimore, MD

Mandatory Source(s) of Supply: The Chimes, Inc., Baltimore, MD

Contracting Activity: GSA/PBS/R03 Regional Contracts Support Services Section, Philadelphia, PA

Patricia Briscoe,
Deputy Director, Business Operations (Pricing and Information Management).

[FR Doc. 2016-11997 Filed 5-19-16; 8:45 am]

BILLING CODE 6353-01-P